DEPARTMENT OF LABOR

Office of the Secretary

Submission for OMB Review; Comment Request

February 27, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or e-Mail: mills.ira@dol.gov.

Comments should be sent to Office of Information and Regulatory Affairs, Attn: OMB Desk Officer for DOL, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Occupational Safety and Health Administration.

Type of Review: Extension of a currently approved collection.

Title: Formaldehyde (1910.1048).

OMB Number: 1218-0145.

Frequency: On occasion.

Affected Public: Business of other for-profit; Federal Government; and State, local or tribal government.

Number of Respondents: 133,196.

Number of Annual Responses: 1,798,738.

Estimated Time Per Response: Varies from 5 minutes for employers to maintain exposure monitoring and medical records for each employee to 1 hour for employees to receive a medical examination.

Total Burden Hours: 490,412 hours.

Total Annualized capital/startup costs: $0.

Total Annual Costs (operating/maintaining systems or purchasing services): $52,058,424.

Description: The information collection requirements specified in the Formaldehyde Standard protect employees from the adverse health effects that may result from their exposure to Formaldehyde. The major information collection requirements of the Formaldehyde Standard require employers to perform exposure monitoring to determine employees exposure to Formaldehyde, notifying employees of their Formaldehyde exposures, providing examining physicians with specific information, ensuring that employees receive a copy of their medical examination results, training, maintaining employees' exposure monitoring and medical records for specific periods, and providing access to these records by OSHA, the National Institute for Occupational Safety and Health, the affected employees, and their authorized representatives.

Ira L. Mills,
Departmental Clearance Officer.

[FR Doc. 04-4952 Filed 3-4-04; 8:45 am]

BILLING CODE 4510-26-M